DEPARTMENT OF LABOR

Occupational Safety and Health Administration

[Docket No. NRTL-2-92]

Canadian Standards Association; Expansion of Recognition

AGENCY: Occupational Safety and Health Administration (OSHA), Labor.

ACTION: Notice.

SUMMARY: This notice announces the Agency's final decision on the application of the Canadian Standards Association (CSA) for expansion of its recognition as a Nationally Recognized Testing Laboratory (NRTL) under 29 CFR 1910.7.

EFFECTIVE DATE: This recognition becomes effective on August 26, 2003 and, unless modified in accordance with 29 CFR 1910.7, continues in effect while CSA remains recognized by OSHA as an NRTL.

FOR FURTHER INFORMATION CONTACT: Bernard Pasquet, Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the expansion of recognition of the Canadian Standards Association (CSA) as a Nationally Recognized Testing Laboratory (NRTL). CSA's expansion covers the use of additional test standards. OSHA's current scope of recognition for CSA may be found in the following informational web page: http://www.osha-slc.gov/dts/otpca/nrtl/csa.html.

OSHA recognition of an NRTL signifies that the organization has met the legal requirements in Section 1910.7 of Title 29, Code of Federal Regulations (29 CFR 1910.7). Recognition is an acknowledgement that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on an application. These notices set forth the NRTL's scope of recognition or modifications of this scope.

CSA submitted a request, dated March 27, 2002 (see Exhibit 30), to expand its recognition as an NRTL to use 17 additional test standards. The NRTL Program staff determined that nine of these standards could not be included in the expansion because they are not “appropriate test standards,” within the meaning of 29 CFR 1910.7(c). The staff makes similar determinations in processing expansion requests from any NRTL. Therefore, OSHA approves eight test standards for the expansion, which are listed below. Through no fault of CSA, the application was initially delayed in processing.

In connection with the request, OSHA did not perform an on-site review of CSA's NRTL testing facilities. However, NRTL Program assessment staff reviewed information pertinent to the request and recommended that CSA's recognition be expanded to include the additional test standards listed above (see Exhibit 31).

OSHA published the notice of its preliminary findings on the expansion request in the Federal Register on May 22, 2003 (68 FR 28033). The notice requested submission of any public comment by June 6, 2003. OSHA did not receive any comments pertaining to the application.

The previous notice published by OSHA for CSA's recognition covered a renewal and expansion of recognition, which became effective on July 3, 2001 (66 FR 35271).

You may obtain or review copies of all public documents pertaining to the CSA application by contacting the Docket Office, Occupational Safety and Health Administration, U.S. Department of Labor, 200 Constitution Avenue, NW., Room N2625, Washington, DC 20210. You should refer to Docket No. NRTL-2-92, the permanent record of public information on CSA's recognition.

The current address of the testing facilities (sites) that OSHA recognizes for CSA are:

Canadian Standards Association, Etobicoke (Toronto), 178 Rexdale Boulevard, Etobicoke, Ontario, M9W 1R3

CSA International, Pointe-Claire (Montreal), 865 Ellingham Street, Pointe-Claire, Quebec H9R 5E8

CSA International, Richmond (Vancouver), 13799 Commerce Parkway, Richmond, British Columbia V6V 2N9

CSA International, Edmonton, 1707-94th Street, Edmonton, Alberta T6N 1E6

CSA International, Cleveland, 8501 East Pleasant Valley Road, Cleveland, Ohio 44131 (formerly part of the American Gas Association)

CSA International, Irvine, 2805 Barranca Parkway, Irvine, California 92606 (formerly part of the American Gas Association)

Final Decision and Order

The NRTL Program staff has examined the application, the assessor's recommendation, and other pertinent information. Based upon this examination and the recommendation, OSHA finds that the Canadian Standards Association has met the requirements of 29 CFR 1910.7 for expansion of its recognition to include the additional test standards subject to the limitation and conditions listed below. Pursuant to the authority in 29 CFR 1910.7, OSHA hereby expands the recognition of CSA, subject to this limitation and these conditions.

Limitation

OSHA limits the expansion to testing and certification of products for demonstration of conformance to the following 8 test standards, and OSHA has determined the standards are appropriate, within the meaning of 29 CFR 1910.7(c).

ANSI Z21.19 Refrigerators Using Gas Fuel

ANSI Z21.42 Gas-Fires Illuminating Appliances

ANSI Z21.45 Flexible Connectors of Other Than All-Metal Construction for Gas Appliances

ANSI Z21.54 Gas Hose Connectors for Portable Outdoor Gas-Fired Appliances

ANSI Z21.57 Recreational Vehicle Cooking Gas Appliances

ANSI Z21.58 Outdoor Cooking Gas Appliances

ANSI Z21.74 Portable Refrigerators for Use With HD-5 Propane Gas

ANSI Z21.76 Gas-Fired Unvented Catalytic Room Heaters for Use With Liquefied Petroleum (LP) Gases

UL 2017 General Purposes Signaling Devices and Systems

OSHA's recognition of CSA, or any NRTL, for a particular test standard is limited to equipment or materials (i.e., products) for which OSHA standards require third party testing and certification before use in the workplace. Consequently, an NRTL's scope of recognition excludes any product(s) that fall within the scope of a test standard, but for which OSHA standards do not require testing and certification.

Conditions

CSA must also abide by the following conditions of the recognition, in addition to those already required by 29 CFR 1910.7:

CSA must have specific written testing procedures in place before testing products covered by any test standard for which it is recognized and must use these procedures in testing and certifying those products;

OSHA must be allowed access to CSA's facility and records for purposes of ascertaining continuing compliance with the terms of its recognition and to investigate as OSHA deems necessary;

If CSA has reason to doubt the efficacy of any test standard it is using under this program, it must promptly inform the test standard developing organization of this fact and provide that organization with appropriate relevant information upon which its concerns are based;

CSA must not engage in or permit others to engage in any misrepresentation of the scope or conditions of its recognition. As part of this condition, CSA agrees that it will allow no representation that it is either a recognized or an accredited Nationally Recognized Testing Laboratory (NRTL) without clearly indicating the specific equipment or material to which this recognition is tied, or that its recognition is limited to certain products;

CSA must inform OSHA as soon as possible, in writing, of any change of ownership, facilities, or key personnel, and of any major changes in its operations as an NRTL, including details;

CSA will meet all the terms of its recognition and will always comply with all OSHA policies pertaining to this recognition; and

CSA will continue to meet the requirements for recognition in all areas where it has been recognized.

Signed at Washington, DC this 15th day of August, 2003.
John L. Henshaw,
Assistant Secretary.

[FR Doc. 03-21763 Filed 8-25-03; 8:45 am]

BILLING CODE 4510-26-P